ENVIRONMENTAL PROTECTION AGENCY

40 CFR Part 52

[IL211-1a; FRL-7108-8]

Approval and Promulgation of Implementation Plans; Illinois

AGENCY: Environmental Protection Agency (EPA).

ACTION: Direct final rule.

SUMMARY: The EPA is approving revisions to volatile organic compound (VOC) rules for Bema Film Systems, Incorporated (Bema). This flexographic printing facility is located in DuPage County, Illinois. The Illinois Environmental Protection Agency (IEPA) submitted the revised rules on March 28, 2001 as amendments to its State Implementation Plan (SIP). The revisions consist of an adjusted standard from the Flexographic Printing Rule, 35 IAC 218.401(a), (b), and (c). The Illinois Pollution Control Board (Board) approved this adjusted standard because the Board considers this to be the Reasonably Achievable Control Technology (RACT) for Bema. The Board concluded that complying with the Flexographic Printing Rule requirements would be technically infeasible or economically unreasonable for this facility. The EPA concurs. The adjusted standard requirements include a reduction in trading allotments should Bema's emissions trigger participation in the Illinois market-based emissions trading system, maintaining daily records, conducting trials of compliant inks, and reviewing alternate control technologies.

DATES: This rule is effective on January 29, 2002, unless the EPA receives relevant adverse written comments by December 31, 2001. If adverse written comment is received, the EPA will publish a timely withdrawal of the rule in the Federal Register and inform the public that the rule will not take effect.

ADDRESSES: You should mail written comments to: J. Elmer Bortzer, Chief, Regulation Development Section, Air Programs Branch (AR-18J), U.S. Environmental Protection Agency, Region 5, 77 West Jackson Boulevard, Chicago, Illinois 60604.

You may inspect copies of Illinois' submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524.

SUPPLEMENTARY INFORMATION: Throughout this document wherever “we,” “us,” or “our” are used we mean the EPA.

Table of Contents

I. What is the EPA approving?

II. What are the changes from the current rule?

III. What is the EPA's analysis of the supporting materials?

IV. What are the environmental effects of these actions?

V. What rulemaking actions are the EPA taking?

VI. Administrative requirements.

I. What Is the EPA Approving?

The EPA is approving an adjusted standard from the Flexographic Printing Rule for Bema. Bema is to comply with the requirements in its adjusted standard. The requirements include a reduction of the market-based emissions trading system baseline, maintaining daily records of inks and VOC content, conducting trials of compliant inks, and reviewing alternate control technologies.

II. What Are the Changes From the Current Rule?

The adjusted standard changes the VOC rule Bema must follow. Bema's facility is located in the metropolitan Chicago severe ozone non-attainment area. Bema, with a permitted VOC emissions limit of 77.4 tons per year (TPY), is classified as a major source because it can emit more than 25 TPY of VOC. Chicago area flexographic printers classified as major VOC sources are subject to the Flexographic Printing Rule. This rule requires printers to either use compliant inks (low or no VOC content) or use a VOC emissions control device. Limiting VOC emissions will help to reduce ozone because VOC can chemically react in the atmosphere to form ozone.

The adjusted standard given to Bema changes its requirements to reduce the market-based emissions trading system allotment baseline, maintaining daily records, and to conduct trials with compliant inks and control devices. The market-based trading system will allow Bema to buy emissions allotments from companies which can reduce their VOC emissions at a lower cost than Bema can. The net VOC emissions of all participants meets the desired reductions.

III. What Is the EPA's Analysis of the Supporting Materials?

Illinois included information on compliant ink trials and control device studies at Bema. The Flexographic Printing Rule requires sources to use either compliant inks or to use a control device to limit VOC emissions. To evaluate what RACT is for Bema, the first consideration is to determine what options would work. The costs of the options that will work are then estimated. The economic burden on the company is then considered. If the compliance costs are determined to be too high, this option is not considered RACT.

Bema ran trials of printing with compliant inks. It also determined what control technologies would work and their cost. The Illinois Pollution Control Board concluded that using either compliant inks or a control device would not be RACT for Bema. The EPA concurs. The adjusted standard requirements are considered RACT by the Board. Printing on plastic with compliant inks is rather difficult. The low VOC content in Bema's exhaust causes control devices to have high operational costs. Similar printers have been granted adjusted standards with comparable requirements.

IV. What Are the Environmental Effects of These Actions?

Bema is located in the Chicago severe ozone non-attainment area. Its permitted VOC limit is 77.4 TPY, but its actual emissions are 18 to 30 TPY. VOC can chemically react to form ozone, so limiting VOC emissions in an ozone non-attainment area is desired. Should Bema trigger participation in the Illinois market-based emissions trading program, the adjusted standard lowers its baseline which will require Bema to acquire more trading allotments. Bema can buy emission allotments from other participants. All participants need to own allotments covering their VOC emissions for the ozone season (May 1 to September 30). The trading program reduces the total VOC emissions from the Chicago area. The total area wide emissions are limited by the number of allotments distributed by IEPA to the participants.

V. What Rulemaking Actions Are the EPA Taking?

The EPA is approving, through direct final rulemaking, revisions to the VOC emissions rules for Bema Film Systems in DuPage County, Illinois. These revisions are the required compliance with an adjusted standard to the Flexographic Printing Rule. The Illinois Pollution Control determined that the adjusted standard is RACT for Bema. The requirements of the adjusted standard include reducing the market-based emissions trading system baseline, maintaining daily records, conducting compliant ink trials, and investigation of alternative control devices.

We are publishing this action without a prior proposal because we view these as non-controversial revisions and anticipate no adverse comments. However, in the “Proposed Rules” section of today's Federal Register, we are publishing a separate document that serves as the proposal to approve the SIP revision if adverse written comments are filed. This rule will be effective on January 29, 2002. If the EPA receives an adverse written comment, we will publish a final rule informing the public that this rule will not take effect. We will address all public comments in a subsequent final rule based on the proposed rule. The EPA does not intend to institute a second comment period on this action. Any parties interested in commenting on this action must do so now.

VI. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by January 29, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Ozone, Reporting and recordkeeping requirements, Volatile organic compounds.

Dated: November 9, 2001.
David A. Ullrich,
Deputy Regional Administrator, Region 5.

For the reasons stated in the preamble, part 52, chapter I, title 40 of the Code of Federal Regulations is amended as follows:

PART 52 [AMENDED]

1. The authority citation for part 52 continues to read as follows:

Authority: 42 U.S.C. 7401 et seq.

Subpart O—Illinois

2. Section 52.720 is amended by adding paragraph (c)(161) to read as follows:

§ 52.720 Identification of plan.

* * * * *

(c) * * *

(161) On March 28, 2001, Illinois submitted revisions to volatile organic compound rules for Bema Film Systems, Incorporated in DuPage County, Illinois. The revisions consist of AS 00-11, an adjusted standard to the Flexographic Printing Rule, 35 IAC 218.401 (a), (b), and (c). The adjusted standard requirements include reducing the allotment baseline for the Illinois market-based emissions trading system, maintaining daily records, conducting trials of compliant inks, and reviewing alternate control technologies.

(i) Incorporation by reference.

AS 00-11, an adjusted standard from the Volatile Organic Compound emission limits for Bema Film Systems, Inc. contained in Illinois Administrative Code Title 35: Environmental Regulations for the State of Illinois, Subtitle B: Air Pollution, Chapter I: Pollution Control Board, Subchapter c: Emission Standards and Limitations for Stationary Sources, Part 218.401 (a), (b), and (c). Effective on January 18, 2001.

(ii) Other material.

(A) November 14, 2001, letter from Dennis A. Lawler, Manager, Division of Air Pollution Control, Illinois Environmental Protection Agency to Jay Bortzer, Chief, Regulation Development Section, Air and Radiation Division, USEPA, Region 5, indicating that the effective date of the adjusted standard for Bema Film Systems, Inc. AS 00-11, is January 18, 2001, the date that AS 00-11 was adopted by the Illinois Pollution Control Board.

[FR Doc. 01-29663 Filed 11-29-01; 8:45 am]

BILLING CODE 6560-50-P